DEPARTMENT OF HOMELAND SECURITY

National Communications System

National Security Telecommunications Advisory Committee

AGENCY: National Communications System (NCS).

ACTION: Notice of open meeting.

SUMMARY: A meeting of the President's National Security Telecommunications Advisory Committee (NSTAC) will be held via conference call on Thursday, October 21, 2004, from 3 p.m. to 4 p.m. The NSTAC is subject to the Federal Advisory Committee Act (FACA), Pub. L. 92-463, as amended (5 U.S.C. App. II). The conference call will be opened to the public. The purpose of the meeting is to receive a briefing on:

• Homeland Security Presidential Directive 7 (HSPD7). While the call is opened to the public, the public and other non-NSTAC members will be placed on listen only (muted) lines. For access to the conference bridge and meeting materials, please register with Ms. Daniela Christopherson at (703) 607-6217 or by e-mail at Christod@ncs.gov by 5 p.m., Wednesday, October 20, 2004.

FOR FURTHER INFORMATION CONTACT: Call Ms. Kiesha Gebreyes, Chief, Industry Operations Branch at (703) 607-6134, or write the Manager, National Communications System, P.O. Box 4502, Arlington, Virginia 22204-4502.

Peter M. Fonash,
Federal Register Certifying Officer, National Communications System.

[FR Doc. 04-23424 Filed 10-15-04; 10:42 am]

BILLING CODE 4410-10-M